ENVIRONMENTAL PROTECTION AGENCY

[FRL-7937-7]

Notice of Public Meeting and Conference Calls: Meeting of the National Drinking Water Advisory Council's Subgroup on Drinking Water Program Performance Indicators and Measures

AGENCY: Environmental Protection Agency.

ACTION: Notice.

SUMMARY: Under Section 10(a)(2) of Public Law 92-423, The Federal Advisory Committee Act, notice is hereby given for a meeting of a subgroup of the National Drinking Water Advisory Council (NDWAC or Council). This Council was authorized by the Safe Drinking Water Act in 1974 (42 U.S.C. 300f et seq.) to support the Environmental Protection Agency in performing its responsibilities related to the national drinking water program. In June 2005, the Council established a subgroup to develop recommendations for EPA to move drinking water program measures from outputs to outcomes in three steps. Step 1 will be to recommend changes to the current performance measures that move them toward outcomes. Step 2 will be to recommend new performance measures that can capture some public health outcomes and be included in EPA's next strategic plan. Step 3 will be to identify future performance measures that need additional development. The subgroup will report to the NDWAC by mid-September 2005.

DATES: The face-to-face meeting of the subgroup will be held on Thursday, July 21, 2005, from 8:30 to 5 p.m., and Friday, July 22, 2005, 8:30 a.m. to noon, eastern daylight time.

ADDRESSES: The meeting will be held at the Doubletree Hotel Washington (formerly the Washington Terrace Hotel), 1515 Rhode Island Avenue, NW., Washington, DC 20005. In addition to this meeting, conference calls have been scheduled for August 11, August 30, and September 14, 2005; however, specific times for these calls have not yet been determined.

FOR FURTHER INFORMATION CONTACT: Members of the public who would like to attend the meeting, present an oral statement, or submit a written statement, should contact Clare Donaher by phone at (202) 564-3787, by e-mail at donaher.clare@epa.gov, or by regular mail at the U.S. Environmental Protection Agency, Office of Ground Water and Drinking Water (MC 4601M), 1200 Pennsylvania Avenue, NW., Washington, DC 20460. The public may also participate on the conference calls and times as they are scheduled will be provided to those who contact Clare Donaher.

SUPPLEMENTARY INFORMATION: The meeting is open to the public. Any person needing special accommodations at this meeting, including wheelchair access, should contact Clare Donaher (see FOR FURTHER INFORMATION CONTACT section). Notification of at least five (5) business days before the meeting is preferred so that appropriate special accommodations can be made.

Dated: July 5, 2005.
Cynthia C. Dougherty,
Director, Office of Ground Water and Drinking Water.

[FR Doc. 05-13694 Filed 7-11-05; 8:45 am]

BILLING CODE 6560-50-P